DEPARTMENT OF COMMERCE

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: International Billfish Angler Survey.

OMB Control Number: 0648-0020.

Form Number(s): 88-10.

Type of Request: Regular submission.

Burden Hours: 83.

Number of Respondents: 1,000.

Average Hours per Response: 5 minutes.

Needs and Uses: This Angler Survey began in 1969 and is an integral part of the Billfish Research Program at the Southwest Fishery Science Center (SWFSC). The Angler Survey tracks recreational angler fishing catch and effort for billfish in the Pacific and Indian Oceans used by scientists and fishery managers. The survey is intended for anglers cooperating in the Billfish Program and is entirely voluntary. The National Marine Fisheries Service (NMFS) collects fishing catch and effort information for most domestic and foreign fisheries, as part of Fishery Management Plans whose development is authorized by the Magnuson-Stevens Fishery Conservation and Management Act (MSA), 16 U.S.C. 1851 et seq. Study of migratory gamefish that spend at least part of their life in United States waters is also authorized under 16 U.S.C. 760e.

Affected Public: Individuals or households.

Frequency: Annually.

Respondent's Obligation: Voluntary.

OMB Desk Officer: David Rostker, (202) 395-3897.

Copies of the above information collection proposal can be obtained by calling or writing Diana Hynek, Departmental Paperwork Clearance Officer, (202) 482-0266, Department of Commerce, Room 7845, 14th and Constitution Avenue, NW., Washington, DC 20230 (or via the Internet at dHynek@doc.gov).

Written comments and recommendations for the proposed information collection should be sent within 30 days of publication of this notice to David Rostker, OMB Desk Officer, FAX number (202) 395-7285, or David_Rostker@omb.eop.gov.

Dated: June 1, 2009.
Gwellnar Banks,
Management Analyst, Office of the Chief Information Officer.

[FR Doc. E9-13016 Filed 6-3-09; 8:45 am]

BILLING CODE 3510-22-P